DEPARTMENT OF THE TREASURY

Alcohol and Tobacco Tax and Trade Bureau

Proposed Information Collections; Comment Request

AGENCY: Alcohol and Tobacco Tax and Trade Bureau; Treasury.

ACTION: Notice and request for comments.

SUMMARY: As part of our continuing effort to reduce paperwork and respondent burden, and as required by the Paperwork Reduction Act of 1995, we invite comments on the proposed or continuing information collections listed below in this notice.

DATES: We must receive your written comments on or before February 27, 2012.

ADDRESSES: You may send comments to Mary A. Wood, Alcohol and Tobacco Tax and Trade Bureau, at any of these addresses:

• P.O. Box 14412, Washington, DC 20044-4412;

• 202-453-2686 (facsimile); or

• formcomments@ttb.gov (email).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-1039, ext. 165.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Personnel Questionnaire—Alcohol and Tobacco Products.

OMB Control Number: 1513-0002.

TTB Form Number: 5000.9.

Abstract: The information listed on TTB F 5000.9, Personnel Questionnaire—Alcohol and Tobacco Products, enables TTB to determine whether or not an applicant for an alcohol or tobacco permit meets the minimum qualifications. The form identifies the individual, residence, business background, financial sources for the business, and criminal record. If the applicant is found not to be qualified, the permit may be denied.

Current Actions: We are submitting this information collection for extension purposes only. The information collection, estimated number of respondents, and estimated total annual burden hours remain unchanged.

Type of Review: Extension of a currently approved collection.

Affected Public: Business or other for-profit.

Estimated Number of Respondents: 5,000.

Estimated Total Annual Burden Hours: 10,000.

Title: Change of Bond (Consent of Surety).

OMB Control Number: 1513-0013.

TTB Form Number: 5000.18.

Abstract: A Change of Bond (Consent of Surety) is executed by both the bonding company and a proprietor and acts as a binding legal agreement between the two parties to extend the terms of a bond. A bond is necessary to cover specific liabilities on the revenue produced from untaxpaid commodities. The Change of Bond (Consent of Surety) is filed with TTB and a copy is retained by TTB as long as it remains current and in force.

Current Actions: We are submitting this information collection as a revision. A change in the supporting statement reflects a change to a regulatory section number contained in the final rule that revised 27 CFR Part 19, Distilled Spirits Plants (see T.D. TTB-92, February 16, 2011, 76 FR 9080). The information collection, estimated number of respondents, and estimated total annual burden hours remain unchanged.

Type of Review: Revision of a currently approved collection.

Affected Public: Business or other for-profit.

Estimated Number of Respondents: 2,000.

Estimated Total Annual Burden Hours: 2,000.

Title: Application for and Certification/Exemption of Label/Bottle Approval.

OMB Number: 1513-0020.

TTB Form Number: 5100.31.

Abstract: The Federal Alcohol Administration Act (the FAA Act, 27 U.S.C. 201 et seq.) requires the alcoholic beverage labels to provide the consumer with adequate information regarding a product's identity and prohibits the use of misleading information on such labels. The FAA Act also authorized the Secretary of the Treasury Department to issue regulations to carry out its provisions. To ensure compliance with the FAA Act and the related regulations, industry members complete TTB F 5100.31 as an application to label their products.

Current Actions: TTB F 5100.31, Application for and Certification/Exemption of Label/Bottle Approval, was revised in part to accommodate the Alcohol and Tobacco Tax and Trade Bureau's ongoing efforts to streamline the Certificate of Label Approval application and review process. Minor changes were made to the application portion of the form, including elimination of the requirement to show wording appearing on caps and seals and other materials firmly affixed to the container. Minor changes were also made to the second and third pages of the form including changes to the instructions for completing the form and the conditions of approval. The circumstances under which approved labels may be modified without submission of a new application for certificate of label approval were also updated to include additional circumstances. Finally, the supporting statement and form reflect the new section numbers used in the final rule that revised 27 CFR Part 19, Distilled Spirits Plants (see T.D. TTB-92, February 16, 2011, 76 FR 9080).

Type of Review: Revision of a currently approved collection.

Affected Public: Business or other for-profit.

Estimated Number of Respondents: 7,738.

Estimated Total Annual Burden Hours: 67,566.

Title: Claim for Drawback of Tax on Tobacco Products, Cigarette Papers, and Cigarette Tubes.

OMB Number: 1513-0026.

TTB Form Number: 5620.7.

Abstract: TTB F 5620.7 documents that cigars, cigarettes, and cigarette papers and tubes were shipped to a foreign country, Puerto Rico, the Virgin Islands, or a possession of the United States and that the tax has been paid on these tobacco articles. TTB F 5620.7 is the claim form that a person who paid the tax on the articles uses to file for a drawback or refund for the tax that was paid.

Current Actions: We are submitting this information collection as a revision. We are consolidating two collections (1513-0026 and 1513-0102) into one (1513-0026). Both collections contain some of the same regulatory sections. In addition to the duplicate sections, we are adding sections 44.228, 44.229, and 44.230 to 1513-0026 to ensure that all related 27 CFR regulatory sections are covered. Afterwards, 1513-0102 will be discontinued.

Type of Review: Revision of a currently approved collection.

Affected Public: Business or other for-profit.

Estimated Number of Respondents: 288.

Estimated Total Annual Burden Hours: 144.

Title: Taxable Articles without Payment of Tax.

OMB Control Number: 1513-0027.

TTB Form Number: 5200.14.

Abstract: The tobacco manufacturer or export warehouse proprietor is liable for the tax on tobacco products until execution of the certification by Customs or an authorized receiving officer on TTB F 5200.14, which indicates verification of export or bonded transfer. TTB needs this information to protect the revenue. If this TTB form is not properly completed, TTB will assess the tax on the manufacturer of tobacco products or cigarette papers and tubes or on the proprietor of the export warehouse or customs manufacturing warehouse for products not exported or properly disposed of.

Current Actions: We are submitting this information collection for extension purposes only. The information collection, estimated number of respondents, and estimated total annual burden hours remain unchanged.

Type of Review: Extension of a currently approved collection.

Affected Public: Business or other for-profit and Federal Government.

Estimated Number of Respondents: 272.

Estimated Total Annual Burden Hours: 59,840.

Title: Drawback on Distilled Spirits Exported.

OMB Control Number: 1513-0042.

TTB Form Number: 5110.30.

Abstract: The information collected on TTB F 5110.30 provides a uniform format for determining that taxes have already been paid. The form details specific operations and accounts for taxable commodities. Tax liability is established to prevent jeopardy to the revenue derived from distilled spirits. TTB examines and verifies entries so as to identify unusual activities, errors, or omissions.

Current Actions: We are submitting this information collection for extension purposes only. The information collection, estimated number of respondents, and estimated total annual burden hours remain unchanged.

Type of Review: Extension of a currently approved collection.

Affected Public: Business or other for-profit.

Estimated Number of Respondents: 100.

Estimated Total Annual Burden Hours: 10,000.

Title: Application and Permit under 26 U.S.C. 5181—Alcohol Fuel Producer.

OMB Control Number: 1513-0051.

TTB Form Number: 5110.74.

Abstract: This form is used by persons who wish to produce and receive spirits for the production of alcohol fuels as a business or for their own use and for State and local registration where required. The form describes the person(s) applying for the permit, location of the proposed operation, type of material used for production, and amount of spirits to be produced.

Current Actions: We are submitting this information collection as a revision. A change in the supporting statement reflects a change to a regulatory section number contained in the final rule that revised 27 CFR Part 19, Distilled Spirits Plants (see T.D. TTB-92, February 16, 2011, 76 FR 9080). The information collection, estimated number of respondents, and estimated total annual burden hours remain unchanged.

Type of Review: Revision of a currently approved collection.

Affected Public: Business or other for-profit.

Estimated Number of Respondents: 219.

Estimated Total Annual Burden Hours: 394.

Title: Excise Tax Return—Alcohol and Tobacco (Puerto Rico).

OMB Number: 1513-0090.

TTB Form Number: 5000.25.

Abstract: Businesses in Puerto Rico report their Federal excise tax liability on distilled spirits, wine, beer, tobacco products, and cigarette papers and tubes on TTB F 5000.25. TTB needs this form to identify the taxpayer and to determine the amount and type of taxes due and paid.

Current Actions: We are submitting this information collection for extension purposes only. The information collection, estimated number of respondents, and estimated total annual burden hours remain unchanged.

Type of Review: Extension of a currently approved collection.

Affected Public: Business or other for-profit.

Estimated Number of Respondents: 24.

Estimated Total Annual Burden Hours: 356.

Title: COLAs Online Access Request.

OMB Number: 1513-0111.

TTB Form Number: 5013.2.

Abstract: The information on this form will be used by TTB to authenticate end users on the COLAs Online system who electronically file Certificates of Label Approval (COLAs). The system will authenticate end users by comparing user-submitted information to records in multiple databases.

Current Actions: We are submitting this information collection for extension purposes only. The information collection, estimated number of respondents, and estimated total annual burden hours remain unchanged.

Type of Review: Extension of a currently approved collection.

Affected Public: Business or other for-profit.

Estimated Number of Respondents: 1,366.

Estimated Total Annual Burden Hours: 410.

Title: Special (occupational) Tax Registration and Return.

OMB Control Number: 1513-0112.

TTB Form Numbers: 5630.5a, 5630.5d, and 5630.5t.

Abstract: On August 10, 2005, the President signed into law the “Safe, Accountable, Flexible, Efficient Transportation Equity Act: A Legacy for Users,” Public Law 109-59. Section 11125 of that act permanently repealed, effective July 1, 2008, the special (occupational) tax (SOT) on all taxpayers except for Tobacco Product Manufacturers (TPM), Cigarette Papers and Tubes Manufacturers (CPTM), and Tobacco Products Export Warehouse Proprietors (TPEWP). As a result, three forms were created to cover all phases of SOT collections. TTB F 5630.5 was amended to create TTB F 5630.5t, which is used only for collection of taxes from TPM, CPTM, and TPEWP; TTB F 5630.5a is a tax return/registration for the period on and before July 1, 2008; and TTB F 5630.5d is used to register Alcohol Dealers on and after July 1, 2008.

Current Actions: We are submitting this information collection for extension purposes only. The information collection, estimated number of respondents, and estimated total annual burden hours remain unchanged.

Type of Review: Extension of a currently approved collection.

Affected Public: Business and other for-profit, Individuals or households, Not-for-profit institutions.

Estimated Number of Respondents: 35,000.

Estimated Total Annual Burden Hours: 14,583.

Title: Formulas for Fermented Products.

OMB Control Number: 1513-0118.

TTB Reporting Requirement Number: 5052/1.

Abstract: The collection is used, along with other supporting documents, to establish that the standards for production are followed for a given type and style of beer. Also, TTB examines the formula information to determine if the product may be produced at a brewery and if it is to be taxpaid at the rate applicable to beer and sake.

Current Actions: We are submitting this information collection for extension purposes only. The information collection, estimated number of respondents, and estimated total annual burden hours remain unchanged.

Type of Review: Extension of a currently approved collection.

Affected Public: Business or other for-profit.

Estimated Number of Respondents: 100.

Estimated Total Annual Burden Hours: 500.

Dated: December 20, 2011.
Gerald Isenberg,
Director, Regulations and Rulings Division.

[FR Doc. 2011-33077 Filed 12-23-11; 8:45 am]

BILLING CODE 4810-31-P